DEPARTMENT OF LABOR

Employment and Training Administration

United States Steel, LLC, Fairless Hills, Notice of Affirmative Determination Regarding Application for Reconsideration

By letter of November 27, 2001, the United Steel Workers of America requested administration reconsideration of the Department of Labor's Notice of Negative Determination Regarding Eligibility to Apply for Worker Adjustment Assistance, applicable to workers of the subject firm. The denial notice was signed on September 28, 2001, and published in the Federal Register on December 5, 2001 (66 FR 63261). The workers were engaged in activities related to the production of tin mill products.

The petitioner requested that the Department examine additional customers of the subject plant regarding their purchases of tin mill products during the relevant period. The Department of Labor will conduct a survey of these additional customers to determine if imports contributed importantly to the declines in employment at the subject plant.

Conclusion

After careful review of the application, I conclude that the claim is of sufficient weight to justify reconsideration of the Department of Labor's prior decision. The application is, therefore, granted.

Signed at Washington, DC, this 11th day of February, 2002.
Edward A. Tomchick,
Director, Division of Trade Adjustment Assistance.

[FR Doc. 02-5592 Filed 3-7-02; 8:45 am]

BILLING CODE 4510-30-M